NATIONAL SCIENCE FOUNDATION

Notice of Permits Issued Under the Antarctic Conservation Act of 1978

AGENCY: National Science Foundation.

ACTION: Notice of permits issued.

SUMMARY: The National Science Foundation (NSF) is required to publish notice of permits issued under the Antarctic Conservation Act of 1978. This is the required notice.

FOR FURTHER INFORMATION CONTACT: Polly Penhale, ACA Permit Officer, Office of Polar Programs, National Science Foundation, 2415 Eisenhower Avenue, Alexandria, VA 22314; 703-292-8030; email: ACApermits@nsf.gov.

SUPPLEMENTARY INFORMATION: On November 5, 2021, the National Science Foundation published a notice in the Federal Register of permit applications received. The permits were issued on December 6, 2021, to:

1. Henry Wulff, Atlas Ocean Voyages—Permit No. 2022-021

2. Deirdre Dirkman, Vantage Deluxe World Travel—Permit No. 2022-022

3. Tom Russell, Swan Hellenic Antarctic—Permit No. 2022-023

4. Michael Hjorth, Albatros Expeditions—Permit No. 2022-024

Erika N. Davis,
Program Specialist, Office of Polar Programs.

[FR Doc. 2021-26671 Filed 12-8-21; 8:45 am]

BILLING CODE 7555-01-P